DEPARTMENT OF ENERGY

Federal Energy Regulatory Commission

[Project No. 459-128]

Union Electric Company, dba AmerenUE; Notice of Availability of Environmental Assessment

February 7, 2006.

In accordance with the National Environmental Policy Act of 1969 and the Federal Energy Regulatory Commission's (Commission) regulations, 18 CFR Part 380 (Order No. 486, 52 FR 47897), the Office of Energy Projects' staff has reviewed the application for new license for the Osage Project, located on the Osage River in south central Missouri, and has prepared an Environmental Assessment (EA) for the project. In the EA, Commission staff analyzed the potential environmental effects of relicensing the project and concluded that issuing a new license for the project, with appropriate environmental measures, would not constitute a major federal action that would significantly affect the quality of the human environment.

Copies of the EA are available for review in the Public Reference Room or may be viewed on the Commission's Web site at http://www.ferc.gov, using the “eLibrary” link. Enter the docket number, excluding the last three digits in the docket number field to access the document. You may register online at http://www.ferc.gov/docs-filing/esubscription.asp to be notified via e-mail of new filings and issuances related to this or any other pending projects. For assistance, contact FERC Online Support at FERCOnlineSupport@ferc.gov or toll-free at 1-866-208-3676, or for TTY, (202) 502-8659.

Any comments should be filed within 45 days from the date of this notice and should be addressed to Magalie R. Salas, Secretary, Federal Energy Regulatory Commission, 888 First Street, NE., Washington, DC 20426. Please affix Project No. 459-128 to all comments. Comments may be filed electronically via the Internet, in lieu of paper. The Commission strongly encourages electronic filings. See 18 CFR 385.2001(a)(1)(iii) and the instructions on the Commission's Web site under the “e-filing” link. Based on the comments filed, Commission staff may elect to revise the EA and issue a final environmental document. For further information, please contact Allan Creamer by telephone at (202) 502-8365 or by e-mail at allan.creamer@ferc.gov.

Magalie R. Salas,
Secretary.

[FR Doc. E6-2038 Filed 2-13-06; 8:45 am]

BILLING CODE 6717-01-P